DEPARTMENT OF HEALTH AND HUMAN SERVICES

Centers for Medicare & Medicaid Services

[Document Identifier: CMS-10141, CMS-R-246, CMS-10146 and CMS-10095]

Agency Information Collection Activities: Submission for OMB Review; Comment Request

AGENCY: Centers for Medicare & Medicaid Services.

In compliance with the requirement of section 3506I(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Medicare Prescription Drug Benefit Plan; Use: Section 101 of Title I of the Medicare Prescription Drug, Improvement, and Modernization Act of 2003 added sections 1860D-1 through D-42 to establish this new program. Part D plans use the information discussed to comply with the eligibility and associated Part D participating requirements. CMS will use this information to approve contract applications, monitor compliance with contract requirements, make proper payment to plans, and to ensure that correct information is disclosed to enrollees, both potential enrollees and enrollees. Form Number: CMS-10141 (OMB#: 0938-0964); Frequency: Yearly; Affected Public: Individuals and households, and business or other for-profit and not-for-profit institutions; Number of Respondents: 19,937,660; Total Annual Responses: 43,153,271; Total Annual Hours: 36,520,101. (For policy questions regarding this collection contact Christine Hinds at 410-786-4578. For all other issues call 410-786-1326.)

2. Type of Information Collection Request: Revision of a currently approved collection; Title of Information Collection: Consumer Assessment of Health Care Providers and Systems (CAHPS); Use: CMS is required to collect and report information on the quality of health care services and prescription drug coverage available to persons enrolled in a Medicare health or prescription drug plan under provisions in the Medicare Prescription Drug, Improvement, and Modernization Act of 2003 (MMA). Specifically, the MMA under Sec. 1860D-4 (Information to Facilitate Enrollment) requires CMS to conduct consumer satisfaction surveys regarding Medicare prescription drug plans and Medicare Advantage plans and report this information to Medicare beneficiaries prior to the Medicare annual enrollment period. The Medicare CAHPS survey meets the requirement of collecting and publicly reporting consumer satisfaction information. Refer to the supporting documents to review the current collection changes. Form Number: CMS-R-246 (OMB#: 0938-0732); Frequency: Yearly; Affected Public: Individuals and households, and business or other for-profit and not-for-profit institutions; Number of Respondents: 567,324; Total Annual Responses: 567,324; Total Annual Hours: 242,376. (For policy questions regarding this collection contact Elizabeth Goldstein at 410-786-6665. For all other issues call 410-786-1326.)

3. Type of Information Collection Request: Revision of a currently approved collection; Title of Information Collection: Notice of Denial of Medicare Prescription Drug Coverage: Use: Section 1860D-4(g)(1) of the Social Security Act requires Part D plan sponsors that deny prescription drug coverage to provide a written notice of the denial to the enrollee. The purpose of this notice is to provide information to enrollees when prescription drug coverage has been denied, in whole or in part, by their Part D plans. The notice must be readable, understandable, and state the specific reasons for the denial. The notice must also remind enrollees about their rights and protections related to requests for prescription drug coverage and include an explanation of both the standard and expedited redetermination processes and the rest of the appeal process. For a list of changes, refer to the summary of changes document. Form Number: CMS-10146 (OMB#: 0938-0976); Frequency: Daily; Affected Public: Business or other for-profits; Number of Respondents: 456; Total Annual Responses: 290,344; Total Annual Hours: 145,172. (For policy questions regarding this collection contact Kathryn M. Smith at 410-786-7623. For all other issues call 410-786-1326.)

4. Type of Information Collection Request: Revision of a currently approved collection; Title of Information Collection: Detailed Explanation of Non-Coverage (42 CFR 422.626(e)(1)), and Notice of Medicare Non-Coverage (42 CFR 422.624(b)(1)); Use: Under section 42 CFR 422.624 (b)(1), skilled nursing facilities (SNFs), home health agencies (HHAs), and comprehensive outpatient rehabilitation facilities (CORFs) must deliver to Medicare health plan enrollees a 2-day advance notice of termination of services. Per requirements at 42 CFR 422.626(e)(1), plans must deliver detailed notices to the Quality Improvement Organization (QIO) and enrollees whenever an enrollee appeals a termination of services. The Notice of Medicare Non-Coverage (NOMNC) and the Detailed Explanation of Non-Coverage (DENC) fulfill these regulatory requirements. Additionally, 42 CFR 417.600(b) provides that cost plans must follow these same fast track appeal notification procedures for their enrollees in SNFs, HHAs and CORFs. Refer to the crosswalk document for a list of changes. Form Number: CMS-10095 (OMB#: 0938-0910); Frequency: Yearly; Affected Public: Business or other for-profits and not-for-profit institutions; Number of Respondents: 25,655; Total Annual Responses: 100,785; Total Annual Hours: 45,353.25 (For policy questions regarding this collection contact Stephanie Simons at 206-615-2420. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on August 23, 2010. OMB, Office of Information and Regulatory Affairs, Attention: CMS Desk Officer; Fax Number: (202) 395-6974; E-mail: OIRA_submission@omb.eop.gov.

Dated: July 19, 2010.
Michelle Shortt,
Director, Regulations Development Group, Office of Strategic Operations and Regulatory Affairs.

[FR Doc. 2010-17898 Filed 7-22-10; 8:45 am]

BILLING CODE 4120-01-P